DEPARTMENT OF STATE

22 CFR Part 172

[Public Notice: 12916]

RIN 1400-AG21

Service of Process; Further Change

AGENCY: Department of State.

ACTION: Final rule.

SUMMARY: This rule provides an additional change in the address for service of process for summonses, complaints, or other legal documents directed to the Department of State or to any Department employee or former employee in connection with Federal or State litigation.

DATES: This rule is effective January 16, 2026.

FOR FURTHER INFORMATION CONTACT: Alice Kottmyer, Attorney Adviser, Office of Management, kottmyeram@state.gov.

SUPPLEMENTARY INFORMATION: For background and Regulatory Analyses, please see the final rule at 91 FR 1245 on January 13, 2026. This rule provides a further modification to § 172.3.

List of Subjects in 22 CFR Part 172

Administrative practice and procedure, Courts, Government employees.

Accordingly, for the reasons stated in the preamble, the Department of State amends part 172 of title 22, Code of Federal Regulations, as follows:

PART 172—SERVICE OF PROCESS; PRODUCTION OR DISCLOSURE OF OFFICIAL INFORMATION IN RESPONSE TO COURT ORDERS, SUBPOENAS, NOTICES OF DEPOSITIONS, REQUESTS FOR ADMISSIONS, INTERROGATORIES, OR SIMILAR REQUESTS OR DEMANDS IN CONNECTION WITH FEDERAL OR STATE LITIGATION; EXPERT TESTIMONY

1. The authority citation for part 172 continues to read as follows:

Authority: 5 U.S.C. 301; 8 U.S.C. 1202(f); 22 U.S.C. 2651a, 2664, 3926.

§ 172.3 [Amended]

2. Amend § 172.3, paragraphs (a) introductory text and (d) by removing the text “L/EX” and adding in its place the text “S/ES-EX”.

Alice M. Kottmyer,
Attorney-Adviser, Office of the Legal Adviser, Department of State.

[FR Doc. 2026-00832 Filed 1-15-26; 8:45 am]

BILLING CODE 4710-08-P